DEPARTMENT OF THE INTERIOR

Fish and Wildlife Service

Hanford Reach National Monument Federal Planning Advisory Committee Meetings

AGENCY: Fish and Wildlife Service, Interior.

ACTION: Notice of Hanford Reach National Monument Federal Planning Advisory Committee Meetings.

SUMMARY: The U.S. Fish and Wildlife Service (Service) is announcing four meetings of the Hanford Reach National Monument (Monument) Federal Planning Advisory Committee (Committee). In the next four meetings, the Committee will continue their work on making recommendations to the Service and the Department of Energy (DOE) on the preparation of a Comprehensive Conservation Plan and associated Environmental Impact Statement (CCP/EIS) which will serve as a long-term management plan for the Hanford Reach National Monument. The Committee is focusing on advice that identifies and reconciles land management issues while meeting the directives of Presidential Proclamation 7319 that established the Monument.

DATES: The Committee has scheduled the following meetings:

1. Tuesday, June 24, 2003, 12:30 p.m. to 4:30 p.m., Richland, WA.

2. Thursday, August 7, 2003, 12:30 p.m. to 4:30 p.m., Richland, WA.

3. Thursday, September 25, 2003, 12:30 p.m. to 4:30 p.m., Richland, WA.

4. Thursday, December 4, 2003, 12:30 p.m. to 4:30 p.m., Richland, WA.

ADDRESSES: The meeting locations are:

1. Washington State University Tri-Cities Consolidated Information Center, 2770 University Drive, Rooms 120 and 120 A, Richland, WA.

2. Washington State University Tri-Cities Consolidated Information Center, 2770 University Drive, Rooms 210, 212 and 214, Richland, WA.

3. Washington State University Tri-Cities Consolidated Information Center, 2770 University Drive, Rooms 120 and 120 A, Richland, WA.

4. Washington State University Tri-Cities Consolidated Information Center, 2770 University Drive, Rooms 120 and 120 A, Richland, WA.

Any member of the public wishing to submit written comments should send those to Mr. Greg Hughes, Designated Federal Official for the Hanford Reach National Monument Federal Planning Advisory Committee, Hanford Reach National Monument/Saddle Mountain National Wildlife Refuge, 3250 Port of Benton Blvd., Richland, WA 99352; fax (509) 375-0196. Copies of the draft meeting agenda can be obtained from the Designated Federal Official. Comments may be submitted via e-mail to hanfordreach@fws.gov.

FOR FURTHER INFORMATION CONTACT: Any member of the public wishing further information concerning the meeting should contact Mr. Greg Hughes, Designated Federal Official for the Hanford Reach National Monument Federal Planning Advisory Committee; phone (509) 371-1801, fax (509) 375-0196.

SUPPLEMENTARY INFORMATION: Verbal comments will be considered during the course of the meeting and written comments will be accepted at the close of the meeting. Comments may also be submitted via e-mail or mail to the Monument office addresses above. The meetings are open to the public. Over the next several months, the Committee will receive information from Planning Workshops and present advice to the Service and Department of Energy on draft products from those Workshops that will be considered in the CCP/EIS. The Committee will also nominate and elect a chair and vice-chair.

Dated: May 29, 2003.
David J. Wesley,
Deputy Regional Director.

[FR Doc. 03-14668 Filed 6-9-03; 8:45 am]

BILLING CODE 4310-55-P